DEPARTMENT OF COMMERCE

National Oceanic and Atmospheric Administration

RIN 0648-XV112

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Northeast Trawl Advisory Panel (NTAP) will hold a meeting.

DATES: The meeting will be held on Thursday, November 21, beginning at 9 a.m. and will conclude by 4 p.m. For agenda details, see SUPPLEMENTARY INFORMATION.

ADDRESSES: The meeting will be held at the DoubleTree by Hilton Baltimore-BWI Airport located at 890 Elkridge Landing Road, Linthicum, MD 21090 and available via webinar (http://www.mafmc.org/ntap).

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is for the NTAP to (1) review from the flume tank experiment summary, (2) review the NOAA Bigelow door testing summary, (3) discuss catchability in the groundfish stock assessments, (4) discuss the Karen Elizabeth gear performance experiment, (5) discuss the 2020 fiscal year research plans, and (6) discuss any other relevant business.

Special Accommodations

These meetings are physically accessible to people with disabilities. Requests for sign language interpretation or other auxiliary aid should be directed to M. Jan Saunders, (302) 526-5251, at least 5 days prior to the meeting date.

Authority: 16 U.S.C. 1801 et seq.

Dated: October 17, 2019.
Tracey L. Thompson,
Acting Deputy Director, Office of Sustainable Fisheries, National Marine Fisheries Service.

[FR Doc. 2019-22988 Filed 10-21-19; 8:45 am]

BILLING CODE 3510-22-P